DEPARTMENT OF DEFENSE

Office of the Secretary

[Transmittal Nos. 13-22]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives,

Transmittals 13-22 with attached transmittal, policy justification, and Sensitivity of Technology.

Dated: May 22, 2013.
Aaron Siegel,
Alternate OSD Federal Register Liaison Officer, Department of Defense.

BILLING CODE 5001-06-P

Transmittal No. 13-22

Notice of Proposed Issuance of Letter of Offer Pursuant to Section 36(b)(1) of the Arms Export Control Act, as Amended

(i) Prospective Purchaser: Republic of Korea.

(ii) Total Estimated Value:

Major Defense Equipment * | $747 million
Other | $ 76 million
TOTAL | $823 million

(iii) Description and Quantity or Quantities of Articles or Services underConsideration for Purchase:

The Government of the Republic of Korea (ROK) has requested a possible sale of weapons in support of a potential Direct Commerical Sale of F-15 SE aircraft. These aircraft weapons include the following:

274 AIM-120C-7 Advanced Medium Range Air-to-Air Missiles (AMRAAM)

6 AIM-120C-7 AMRAAM Guidance Sections

362 Joint Directed Attach Munition (JDAM) Tail Kits, BLU-109/KMU-557C/B (GBU-31) w/SAASM/AJ

780 JDAM Tail Kits, MK-82/BLU-111 KMU572C/B (GBU-38) w/SAASM/AJ

6 MK-82 Filled, Inert Bombs

170 JDAM Tail Kits, MK-84/BLU-117 KMU-556C/B (GBU-31) w/SAASM/AJ

1312 FMU-152A/B Fuzes (FZU-63 Initiator)

542 GBU-39/B Small Diameter Bombs

170 BLU-117 2000LB General Purpose Bombs

362 BLU-109 2000LB Penetrators

4 BLU-109 Inert Bombs

154 AIM-9X-2 (Blk II) Tactical Missiles w/DSU-41

33 CATM AIM-9X-2 (Blk II) Captive Air Training Missiles

7 AIM-9X-2 (Blk II) CATM Guidance Units

14 AIM-9X-2 (Blk II) Tactical Guidance Unit

Also included are containers, missile support and test equipment, provisioning, spare and repair parts, support equipment, personnel training and training equipment, publications and technical documentation, U.S. Government and contractor engineering and technical support, and other related elements of program support.

* As defined in Section 47(6) of the Arms Export Control Act.

(iv) Military Department: Air Force (BCO) and Navy (AKZ)

(v) Prior Related Cases, if any: FMS case BAI-$1.7B—Pending

(vi) Sales Commission, Fee, etc., Paid, Offered, or Agreed to be Paid: None

(vii) Sensitivity of Technology Contained in the Defense Article orDefense Services Proposed to be Sold: See Attached Annex

(viii) Date Report Delivered to Congress: 21 May 2013

Policy Justification

Republic of Korea—F-15SE Aircraft Weapons

The Government of the Republic of Korea (ROK) has requested a possible sale of weapons in support of a potential Direct Commercial Sale of F-15 SE aircraft. These aircraft weapons include the following:

274 AIM-120C-7 Advanced Medium Range Air-to-Air Missiles (AMRAAM)

6 AIM-120C-7 AMRAAM Guidance Sections

362 Joint Directed Attach Munition (JDAM) Tail Kits, BLU-109/KMU-557C/B (GBU-31) w/SAASM/AJ

780 JDAM Tail Kits, MK-82/BLU-111 KMU572C/B (GBU-38) w/SAASM/AJ

6 MK-82 Filled, Inert Bombs

170 JDAM Tail Kits, MK-84/BLU-117 KMU-556C/B (GBU-31) w/SAASM/AJ

1312 FMU-152A/B Fuzes (FZU-63 Initiator)

542 GBU-39/B Small Diameter Bombs

170 BLU-117 2000LB General Purpose Bombs

362 BLU-109 2000LB Penetrators

4 BLU-109 Inert Bombs

154 AIM-9X-2 (Blk II) Tactical Missiles w/DSU-41

33 CATM AIM-9X-2 (Blk II) Captive Air Training Missiles

7 AIM-9X-2 (Blk II) CATM Guidance Units

14 AIM-9X-2 (Blk II) Tactical Guidance Unit

Also included are containers, missile support and test equipment, provisioning, spare and repair parts, support equipment, personnel training and training equipment, publications and technical documentation, U.S. Government and contractor engineering and technical support, and other related elements of program support. The estimated cost will be $823 million.

This proposed sale will contribute to the foreign policy goals and national security objectives of the United States by meeting the legitimate security and defense needs of an ally and partner nation. The ROK continues to be an important force for peace, political stability, and economic progress in North East Asia.

The proposed sale will provide the ROK with aircraft weapons for the F-15SE. These aircraft and weapons will provide the ROK with a credible defense capability to deter aggression in the region and ensure interoperability with US forces. The ROK will use the enhanced capability as a deterrent to regional threats and strengthen its homeland defense. Additionally, operational control (OPCON) will transfer from US Forces Korea/Combined Forces Command (USFK/CFC) to the ROK's Korea Command (KORCOM) in 2015. This upgrade will enhance the capability needed to support OPCON transfer.

The proposed sale of this equipment and support will not alter the basic military balance in the region.

The principal contractors will be Raytheon Missile Systems Company in Tucson, Arizona; The Boeing Corporation in St Louis, Missouri; Lockheed Martin Missile and Space in Bethesda, Maryland; and Kaman Precision Products in Middletown, Connecticut. There are no known offset agreements proposed in connection with these potential sales.

Implementation of this proposed sale will require multiple trips to Korea involving U.S. Government and contractor representatives for technical reviews/support, program management, and training over a period of eight years. U.S. contractor representatives will be required in Korea to conduct modification kit installation, testing, and training.

There will be no adverse impact on U.S. defense readiness as a result of this proposed sale.

Transmittal No. 13-22

Notice of Proposed Issuance of Letter of Offer Pursuant to Section 36(b)(1) of the Arms Export Control Act

Annex

Item No. vii

(vii) Sensitivity of Technology:

1. The AIM-120C-7 is a Beyond Visual Range (BVR) Advanced Medium Range Air-to-Air Missile (AMRAAM) designed to engage an enemy well before the pilot can see it. It improves the aerial capabilities of U.S. and allied aircraft to meet the threat of enemy air-to-air weapons. The AIM-120C-7 AMRAAM hardware, including the missile guidance section, is classified. The AIM-120C-7 has improved homing and greater range than previous versions.

2. The Joint Direct Attack Munition (JDAM) is a guidance kit that converts existing unguided free-fall bombs into precision-guided “smart” munitions. By adding a new tail section containing Inertial Navigation System (INS) guidance/Global Positioning System (GPS) guidance to MK-82, MK-84 and BLU-109 bombs, the cost effective JDAM provides highly accurate weapon delivery in any “flyable” weather. The INS, using updates from the GPS, helps guide the bomb to the target via the use of movable tail fins. The JDAM AUR (All Up Round) and all of its components are unclassified, technical data for JDAM is classified.

3. The FMU-152A/B Fuze is a multi-function hard/soft target fuzing system developed for use in the MK80series, BLU-109, BLU-110, BLU-111, BLU-113, BLU-117, BLU-122, and in conjunction with JDAM and Paveway weapon kits with high drag and low drag tail kits. In addition to impact/post impact delay, the fuze is capable of accepting a signal from a separate proximity sensor. The key features of the FMU-152A/B include ease of installation and preparation for flight, compatibility with the proximity sensor fire signal, ability to sense a high drag delivery and the ability to manually set the arming and event times prior to takeoff, or electronically set them by cockpit selection prior to bomb release. The FMU-152A/B is unclassified.

4. The GBU-39/B Small Diameter Bomb I (SDB I) is a 250 lb class all-up round (AUR) that provides greater than 50 nm standoff range. The SDB I is a day or night adverse weather weapon with a precision engagement capability against fixed or stationary targets. The warhead is a high-strength steel penetration design with a blast or fragmentation capability. The SDB I is a Global Positioning System (GPS) guided weapon aided by Inertial Navigation System (INS). The SDB I includes an integrated height of burst (HoB) sensor that provides the weapon with an airburst capability. The SDB I AUR and all of its components are unclassified. Technical data for SDB I is classified

5. The BLU-117 is a 2,000 lb class General Purpose Bomb with a steel body and nose section for a proximity sensor, mechanical fuze adapter booster, or a penetrating nose plug. There is also a well in the aft section for a tail electric fuze. It is compatible with proximity sensor and mechanical/electrical/electronic fuzes. It uses a conical fin or laser/GPS guidance airfoil kit. The BLU-117 is unclassified.

6. The BLU-109 is a 2,000 lb class hard target penetrator warhead. It is typically detonated by an FMU-143 series tail fuze. The absence of a nose fuze well (cavity) makes the nose stronger and the weapon's base plate is reinforced to better protect the fuze from the shock of impact. The BLU-109 is not used as a standalone free fall bomb; it is a warhead for the following guided bombs and missiles: GBU-10, GBU-24, and GBU-31(v)3. The BLU-109 is unclassified.

7. The AIM-9X-2 SIDEWINDER Missile represents substantial increase in missile acquisition and kinematics performance over the AIM-9M and replaces the AIM-9X Block I Missile configuration. The missile includes an off-bore sight seeker, enhanced countermeasure rejection capability, low drag/high angle of attack airframe and the ability to integrate the Helmet Mounted Cueing System. The software algorithms are the most sensitive portion of the AIM-9X-2 missile. The equipment, hardware, documentation, software and operational performance are classified. Performance and operating logic of the counter-countermeasures circuits are also classified. The AIM-9X-2 will result in the transfer of sensitive technology and information.

8. If a technologically advanced adversary were to obtain knowledge of the specific hardware and software elements, the information could be used to develop countermeasures that might reduce weapon system effectiveness or be used in the development of a system with similar or advanced capabilities.

[FR Doc. 2013-12562 Filed 5-24-13; 8:45 am]

BILLING CODE 5001-06-P